DEPARTMENT OF COMMERCE

National Oceanic and Atmospheric Administration

50 CFR Part 648

[Docket No. 0912081428-91437-01]

RIN 0648-AY44

Fisheries of the Northeastern United States; Atlantic Mackerel, Squid, and Butterfish Fisheries; Control Date for Loligo and Illex Squid

AGENCY: National Marine Fisheries Service (NMFS), National Oceanic and Atmospheric Administration (NOAA), Commerce.

ACTION: Advance notice of proposed rulemaking (ANPR); notice to reaffirm the control date for the Loligo squid (Loligo) and Illex squid (Illex) fisheries.

SUMMARY: NMFS announces a future proposed rulemaking for the Atlantic mackerel, squid, and butterfish (MSB) fisheries. This rulemaking could institute catch share programs in the Loligo and Illex fisheries to manage future access in these fisheries in order to control capacity. NMFS also reaffirms the most recent control date of May 20, 2003, for the Loligo and Illex fisheries, which may be used for establishing eligibility criteria for determining levels of future access to the squid fisheries. This announcement alerts interested parties of potential eligibility criteria for future access so as to discourage speculative entry into the squid fisheries while the Mid-Atlantic Fishery Management Council (Council) considers if and how access to the squid fisheries should be controlled with catch share programs.

DATES: Public comments on the ANPR must be received no later than 5 p.m., eastern standard time, on February 8, 2010.

ADDRESSES: You may submit comments, identified by RIN 0648-AY44, by any one of the following methods:

• Electronic Submissions: Submit all electronic public comments via the Federal e-Rulemaking portal http://www.regulations.gov;

• Fax to Daniel T. Furlong, 302-674-5399; or

• Mail or hand deliver to Daniel T. Furlong, Executive Director, Mid-Atlantic Fishery Management Council, Room 2115 Federal Building, 300 South New Street, Dover, DE 19904-6790. Mark the outside of the envelope “Comments on Squid Catch Share Programs.”

Instructions: No comments will be posted for public viewing until after the comment period has closed. All comments received are a part of the public record and will generally be posted to http://www.regulations.gov without change. All Personal Identifying Information (e.g., name, address, etc.) voluntarily submitted by the commenter may be publicly accessible. Do not submit Confidential Business Information or otherwise sensitive or protected information.

NMFS will accept anonymous comments (enter N/A in the required fields, if you wish to remain anonymous). You may submit attachments to electronic comments in Microsoft Word, Excel, WordPerfect, or Adobe PDF file formats only.

FOR FURTHER INFORMATION CONTACT: Carrie Nordeen, Fishery Policy Analyst, 978- 281-9272, fax 978-281-9135.

SUPPLEMENTARY INFORMATION: Loligo and Illex support important commercial fisheries along the Atlantic coast of the United States. The Council has considered additional capacity controls in the Loligo and Illex fisheries since 2003. On May 20, 2003 (68 FR 27516), NMFS published, at the request of the Council, an ANPR indicating that the Council intended to consider alternative allocation schemes to further control capacity in the Loligo and Illex fisheries. Accordingly, May 20, 2003, was termed a “control date,” and notice was provided that the control date may be used for establishing eligibility criteria for determining levels of future access to the Loligo and Illex fisheries subject to Federal authority.

At its August 2009 meeting, the Council voted to reaffirm the May 20, 2003, control date for the Loligo fishery and to initiate an amendment to the MSB Fishery Management Plan (FMP), which would consider catch shares for the Loligo and Illex fisheries. The term “catch share” describes a fishery management program that allocates a portion of the total fishery catch to individuals, cooperatives, communities, or other entities. Such programs also specify the rules of operation for the program. At its October 2009 meeting, the Council clarified that its vote to reaffirm the May 20, 2003, control date also applied to the Illex fishery. This notice reaffirms the Council's intent to consider use of the May 20, 2003, Loligo and Illex control date in the upcoming amendment to the MSB FMP. Reaffirming the squid control date is intended to strongly discourage speculative entry into the squid fisheries while catch share measures are developed and considered by the Council. The Council could use the squid control date to reduce potential excess capacity and/or latent capacity by distinguishing established participants from speculative entrants to the fishery. Additional and/or other qualifying criteria may also be applied. Consideration of a control date does not commit the Council or NMFS to develop any particular management system or criteria for participation in the squid fisheries. The Council may choose a different control date, or may choose a management program that does not use such a date. This notification also reminds the public that interested participants should locate and preserve records that substantiate and verify their participation in the Loligo and Illex fisheries in Federal waters.

Authority: 16 U.S.C. 1801 et seq.

Dated: January 4, 2010.
Samuel D. Rauch III,
Deputy Assistant Administrator for Regulatory Programs, National Marine Fisheries Service.

[FR Doc. 2010-143 Filed 1-7-10; 8:45 am]

BILLING CODE 3510-22-S